DEPARTMENT OF ENERGY

Federal Energy Regulatory Commission

[Docket No. PR10-1-000]

Peoples Gas Light and Coke Company; Notice of Petition for Rate Approval

October 19, 2009.

Take notice that on October 13, 2009, Peoples Gas Light and Coke Company (Peoples Gas) filed a petition for rate approval pursuant to Sections 284.123 and 284.224 of the Commission's regulations. Peoples Gas is requesting that the Commission approve as fair and equitable rates for the services that Peoples Gas provides pursuant to its blanket certificate authority, and revised rates for its firm and interruptible transportation and storage service, firm one-cycle exchange service and its interruptible parking and loaning service, all as more fully set forth in the application.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern time on Monday, October 26, 2009.

Kimberly D. Bose,
Secretary.

[FR Doc. E9-25617 Filed 10-23-09; 8:45 am]

BILLING CODE 6717-01-P